DEPARTMENT OF ENERGY

Federal Energy Regulatory Commission

[Docket No. CP03-31-000]

Paiute Pipeline Company; Notice of Application

December 30, 2002.

Take notice that on December 19, 2002, Paiute Pipeline Company (Paiute), PO Box 94197, Las Vegas, Nevada 89193-4197, filed in Docket No. CP03-31-000, an application pursuant to sections 7(b) and 7(c) of the Natural Gas Act (NGA), as amended, and part 157 of the regulations of the Federal Energy Regulatory Commission (Commission), for an order granting a certificate of public convenience and necessity and permission and approval to abandon facilities, so as to enable Paiute to replace two segments of deteriorating pipeline on its Carson Lateral mainline system and at the same time enhance the capacity on its Carson Lateral to meet the growth requirements of an existing shipper served by that portion of its transmission system, Southwest Gas Corporation-Northern Nevada (Southwest), all as more fully set forth in the application which is on file with the Commission and open to public inspection. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Paiute states that it will be replacing two deteriorated segments of the original 10-inch transmission line on its Carson Lateral. At the same time, however, as a result of a request by Southwest for additional firm transportation service on the Carson Lateral, Paiute states that it is also proposing to enhance the capacity of its Carson Lateral facilities by replacing the deteriorated segments with 20-inch diameter pipeline, rather than in kind, and by installing additional new and replacement 20-inch loop pipeline segments.

Specifically, Paiute states that it proposes to (1) Replace approximately 8.0 miles of 10-inch pipeline on the Carson Lateral between mileposts 37.34 and 45.34 with approximately 8.1 miles of 20-inch pipeline; (2) install approximately 6.4 miles of 20-inch loop pipeline on the Carson Lateral between mileposts 9.45 and 15.85; and (3) replace and/or install pressure regulating facilities at four locations.

Paiute states that it has entered into a long-term transportation service agreement with Southwest under which Paiute will provide Southwest with additional firm transportation service of up to 5,868 Dth per day from the Wadsworth receipt point, where Paiute interconnects with Tuscarora Gas Transmission Company, to various delivery points served by the Carson Lateral. Paiute also states that the proposed facilities will add the necessary capacity to provide the increase in firm transportation service and will preserve the existing flexibility of delivery capability afforded to its shippers.

Paiute states that the estimated cost of the proposed facilities is $10,742,000. The cost to abandon in place the existing 10-inch pipeline and to remove certain pressure regulating facilities is estimated to be $18,000. Paiute requests that the Commission, in accordance with its 1999 Policy Statement for the construction of new pipeline facilities, make a determination that a portion of the costs of the proposed facilities be recovered through an incremental rate charged to Southwest, and a portion of the costs be rolled into Paiute's systemwide rates in Paiute's next general rate case under section 4 of the Natural Gas Act. Paiute states that if it were to construct new 10-inch pipeline to replace the two deteriorated 10-inch segments, it would install 6.42 miles of 10-inch replacement pipe at a cost of $3,487,000. Paiute states that it has requested that the Commission determine that $3,487,000 of the costs of the proposed facilities can be rolled into Paiute's systemwide rates in its next rate case, and that the remainder if the project cost be recovered through an incremental surcharge assessed to Southwest.

Paiute requests the issuance of a final certificate order no later than June 1, 2003 so that the proposed facilities can be constructed and placed into service by November 1, 2003.

Any questions concerning this application may be directed to Edward C. McMurtrie, Vice President, General Manager, Paiute Pipeline Company, PO Box 94197, Las Vegas, Nevada 89193-4197, at (702) 876-7178 or fax (702) 873-3820.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original an two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment date: January 21, 2003.

Linwood A. Watson, Jr.,
Deputy Secretary.

[FR Doc. 03-125 Filed 1-3-03; 8:45 am]

BILLING CODE 6717-01-P